DEPARTMENT OF HEALTH AND HUMAN SERVICES

Administration for Children and Families

Proposed Information Collection Activity; Comment Request

Proposed Projects

Title: Title IV-E State Plan for the Foster care, Independent Living and Adoption Assistance Programs.

OMB No.: 0980-0141.

Description: A State plan is required by sections 471 and 477(b)(2), part IV-E of the Social Security Act (the Act) for each public child welfare agency requesting Federal funding for foster care, independent living services and adoption assistance under the Act. The State plan is a comprehensive narrative description of the nature and scope of a State's programs and provides assurances the programs will be administered in conformity with the specific requirements stipulated in title IV-E. The plan must include all applicable State statutory, regulatory, or policy references and citations for each requirement as well as supporting documentation. A State may use the pre-print format prepared by the Children's Bureau of the Administration for Children and Families or a different format, on the condition that the format used includes all of the title IV-E State plan requirements of the law.

Respondents: State and Territorial Agencies (State Agencies) administering or supervising the administration of the title IV-E programs.

Annual Burden Estimates
Instrument | Number of respondents | Number of responses per respondent | Average burden hours per response | Total burden hours
Title IV-E State Plan | 12 | 1 | 15 | 180

Estimated Total Annual Burden Hours: 180.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 5, 2008.
Janean Chambers,
Reports Clearance Officer.

[FR Doc. E8-4805 Filed 3-12-08; 8:45 am]

BILLING CODE 4184-01-M